DEPARTMENT OF LABOR

Employment and Training Administration

[TA-W-57,694]

Cequent Consumer Products, a Subsidiary of Trimas Corporation, Sheffield, PA; Notice of Revised Determination on Reconsideration of Alternative Trade Adjustment Assistance

By letter dated September 15, 2005, a company official requested administrative reconsideration regarding Alternative Trade Adjustment Assistance (ATAA) applicable to workers of the subject firm. The negative determination was signed on August 16, 2005, and was published in the Federal Register on September 8, 2005 (70 FR 53391).

The workers of Cequent Consumer Products, a subsidiary of Trimas Corporation, Sheffield, Pennsylvania were certified eligible to apply for Trade Adjustment Assistance (TAA) on August 16, 2005.

The initial ATAA investigation determined that the skills of the subject worker group are easily transferable to other positions in the local area.

In the request for reconsideration, the company official provided new information confirming that the skills of the workers at the subject firm are not easily transferable in the local commuting area.

Additional investigation has determined that the workers possess skills that are not easily transferable. A significant number or proportion of the worker group are age fifty years or over. Competitive conditions within the industry are adverse.

Conclusion

After careful review of the additional facts obtained on reconsideration, I conclude that the requirements of Section 246 of the Trade Act of 1974, as amended, have been met for workers at the subject firm.

In accordance with the provisions of the Act, I make the following certification:

All workers of Cequent Consumer Products, a subsidiary of Trimas Corporation, Sheffield, Pennsylvania, who became totally or partially separated from employment on or after August 3, 2004 through August 16, 2007, are eligible to apply for trade adjustment assistance under Section 223 of the Trade Act of 1974 and are also eligible to apply for alternative trade adjustment assistance under Section 246 of the Trade Act of 1974.

Signed in Washington, DC this 12th day of October 2005.
Linda G. Poole,
Certifying Officer, Division of Trade Adjustment Assistance.

[FR Doc. E5-5884 Filed 10-24-05; 8:45 am]

BILLING CODE 4510-30-P